DEPARTMENT OF AGRICULTURE

Agricultural Marketing Service

[Doc. No. AMS-TM-23-0076]

Notice of Availability of the Programmatic Environmental Assessment for AMS Organic Market Development Grant Program; Correction

AGENCY: Agricultural Marketing Service, USDA.

ACTION: Notice of availability; correction.

SUMMARY: The Agricultural Marketing Service (AMS) published a notice in the Federal Register of November 20, 2023, concerning the availability of the Draft Programmatic Environmental Assessment (PEA) for the Organic Market Development Grant Program (OMDG) for public review and comments. The notice contained an incorrect link to the Draft PEA.

FOR FURTHER INFORMATION CONTACT: Betsy Rakola, Associate Deputy Administrator, Transportation and Marketing Program; Telephone: (202)-690-1300; Email: OMDG@usda.gov.

SUPPLEMENTARY INFORMATION:

Correction

In the Federal Register of November 20, 2023, in FR Doc. 2023-20564, on page 80688, in the second column, in the third paragraph, correct the program website address where the Draft PEA is available for online review to read “https://www.ams.usda.gov/services/grants/omdg.”

Erin Morris,
Associate Administrator, Agricultural Marketing Service.

[FR Doc. 2023-26061 Filed 11-21-23; 4:15 pm]

BILLING CODE P